ENVIRONMENTAL PROTECTION AGENCY

[FRL-8904-8]

Notice To Terminate the National Environmental Performance Track Program

AGENCY: Environmental Protection Agency (EPA).

ACTION: Notice.

SUMMARY: The Environmental Protection Agency has decided to terminate the National Environmental Performance Track Program.

DATES: The Performance Track Program is terminated effective May 14, 2009.

FOR FURTHER INFORMATION CONTACT: Chuck Kent, Office of Policy, Economics and Innovation, 202-566-2805 or by e-mail at Kent.Chuck@epa.gov.

SUPPLEMENTARY INFORMATION: On June 26, 2000, EPA announced the launch of the National Environmental Performance Track, “Performance Track”, which was initially designed to have two levels, the “Achievement Track,” and the “Stewardship Track.” On July 6, 2000, EPA published in the Federal Register (65 FR 41655) the design of the Achievement Track level of the Performance Track program. The Achievement Track was subsequently renamed the National Environmental Performance Track Program and the development of the Stewardship Track led instead to the creation of the Performance Track Corporate Leader designation.

On March 16, 2009, EPA Administrator Lisa P. Jackson issued a memorandum halting the Performance Track Program. The Administrator's memorandum was followed by a memorandum from Chuck Kent, Director, Office of Policy Economics, and Innovation, dated March 25, 2009, which provided more details about the termination, including that the low priority for routine inspections incentive is no longer in effect. This notice announces that EPA's decision to terminate the Performance Track Program is effective as of the date of this publication, and provides public notice that the low priority for routine inspections incentive for Performance Track facilities is hereby terminated.

Dated: May 11, 2009.
Marcia E. Mulkey,
Acting Associate Administrator, Office of Policy, Economics and Innovation.

[FR Doc. E9-11272 Filed 5-13-09; 8:45 am]

BILLING CODE 6560-50-P